ENVIRONMENTAL PROTECTION AGENCY

[ER-FRL-6652-8]

Environmental Impact Statements; Notice of Availability

Responsible Agency: Office of Federal Activities, General Information (202) 564-7167 or http://www.epa.gov/compliance/nepa/.

Weekly receipt of Environmental Impact Statements

Filed June 14, 2004 Through June 18, 2004

Pursuant to 40 CFR 1506.9.

EIS No. 040281, Final EIS, EPA, SC, Port Royal Ocean Dredged Material Disposal Site (ODMDS), Designation, SC, Wait Period Ends: July 26, 2004, Contact: Wesley B. Crum (404) 562-9352.

EIS No. 040282, Draft Supplement, BLM, NV, Pipeline/South Pipeline Pit Expansion Project, Updated Information on Modifying the Extending Plan of Operations (Plan), Gold Acres Mining District, Launder County, NV, Comment Period Ends: August 9, 2004, Contact: Pam Jarnecke (775) 635-4144.

EIS No. 040283, Final EIS, JUS, TX, Rio Grande Operation Project, Reduction or Elimination of Illegal Drug Activities and Illegal Immigrants, Starr, Hidalgo and Cameron Counties, TX, Wait Period Ends: July 26, 2004, Contact: Dr. Terrell Roberts (409) 766-3035.

EIS No. 040284, Draft EIS, COE, AK, Unalaska Navigation Improvements Project, Construction of Harbor on Amaknak Island in Aleutian Island Chain, Locally known as “Little South America, Integrated Feasibility Report, Aleutian Island, AK, Comment Period Ends: August 9, 2004, Contact: Guy McConnell (907) 753-2614.

EIS No. 040285, Final EIS, FHW, OR, Pioneer Mountain to Eddyville Project on U.S. 20, Corvallis-Newport Highway Improvements, Funding, Right-of-Way Grant and U.S. Army COE Section 404 Permit Issuance, Lincoln County, OR, Wait Period Ends: July 26, 2004, Contact: Elton Chang (503) 587-4710.

EIS No. 040286, Final EIS, AFS, ID, WY, EastBridge Cattle Allotment Management Plan Revision (AMP), Authorization of Continued Grazing, Caribou-Targhee National Forest, Soda Springs Ranger District, Caribou and Bonneville County, ID and Lincoln County, WY, Wait Period Ends: July 26, 2004, Contact: Victor Bradfield (208) 547-4356.

EIS No. 040287, Draft EIS, NOA, FL, Programmatic EIS—Seagrass Restoration in the Florida Keys National Marine Sanctuary, Implementation, US Army COE Section 404 and CZMA Permits, Monroe County, FL, Comment Period Ends: August 9, 2004, Contact: Harriet Sopher Ext. 109 (301) 713-3125. This document is available on the Internet at: http://www.sanctuaries.noaa.gov/library/library.htm1

EIS No. 040288, Draft EIS, FHW, UT, Iron County Transportation Corridors, Construction from Station Road 56 to Exit 51 on Interstate 15, Funding and Right-of-Way Grant, Southwest of the Cedar City, Iron County, UT, Comment Period Ends: August 9, 2004, Contact: Gregory Penske (801) 963-0078.

EIS No. 040289, Final EIS, AFS, UT, WY, East Fork Fire Salvage Project Timber Harvesting of Dead and Dying Trees, Implementation, Wasatch-Cache National Forest, Evanston Ranger District, Summit County, UT, Wait Period Ends: July 26, 2004, Contact: Larry Johnson (307) 789-3194. This document is available on the Internet at: http://www.fs.fed.us/r4/wcnf/projects.

EIS No. 040290, Draft EIS, AFS, MT, Robert-Wedge Post-Fire Project, Salvage Trees and Rehabilitate Lands, Flathead National Forest, Glacier View Ranger District, Flathead County, MT, Comment Period Ends: August 9, 2004, Contact: Kathy Ramirez (208) 331-5908.

EIS No. 040291, Draft EIS, CGD, LA, Gulf Landing LLC Deepwater Port License Application for Construct of Deepwater Port and Associated Anchorages in the Gulf of Mexico, South of Cameron, LA, Comment Period Ends: August 9, 2004, Contact: Mark Prescott (202) 267-0225. This document is available on the Internet at: http//dms.dot.gov.

EIS No. 040292, Draft EIS, FHW, MT, US-2 Highway Corridor Improvement Project, Reconstruction between Havre to Fort Belknap to Replace the Aging US-2 Facility, U.S. Army COE Section 404 Permit, Hill and Blaine Counties, MT, Comment Period Ends: August 13, 2004, Contact: Dale W. Paulson Ext 239 (406) 449-5302.

EIS No. 040293, Final EIS, AFS, MT, West Troy Project, Proposes Timber Harvesting, Natural Fuels Reduction Treatments, Pre-Commercial Thinning, and Watershed Rehabilitation (Decommissioning) Work, Kootenai National Forest, Three River Ranger District, Lincoln County, MT, Wait Period Ends: July 26, 2004, Contact: Kathy Mohar (206) 295-4693.

EIS No. 040294, Final EIS, NOA, TX, MS, FL, LA, AL, Generic Essential Fish Habitat Amendment to the Fishery Management Plans of the Gulf of Mexico (GOM) for Shrimp, Red Drum, Reef Fish, Stone Crab, Coral and Coral Reef, Spiny Lobster Fisheries of the GOM and South Atlantic Coastal Migratory Pelagic Resources of the Gulf of Mexico and South Atlantic, Wait Period Ends: July 26, 2004, Contact: Roy E. Crabtree (727) 570-5301.

EIS No. 040295, Final EIS, USN, CA, Military Family Housing (MFH) in the San Diego Region, Construction of 1,600 MFH Units, Three MFH Sites are Located in the Marine Corps Air Station (MCAS), Miramar in the City of San Diego, San Diego County, CA, Wait Period Ends: July 26, 2004, Contact: Sheila Donovan (619) 532-2518.

Dated: June 22, 2004.
Ken Mittelholtz,
Environmental Protection Specialist, Office of Federal Activities.

[FR Doc. 04-14466 Filed 6-24-04; 8:45 am]

BILLING CODE 6560-50-P